LIBRARY OF CONGRESS

Copyright Office

37 CFR Part 201

[Docket No. 2021-6]

Copyright Claims Board: Initiating of Proceedings and Related Procedures; Correction

AGENCY: U.S. Copyright Office, Library of Congress.

ACTION: Final rule; correction.

SUMMARY: The U.S. Copyright Office is issuing a correction governing the fee to designate a service agent under the Copyright Alternative in Small-Claims Enforcement Act of 2020. The correction reverses an inadvertent reservation instruction.

DATES: Effective April 25, 2022.

FOR FURTHER INFORMATION CONTACT: Megan Efthimiadis, Assistant to the General Counsel, by email at meft@copyright.gov, or by telephone at 202-707-8350.

SUPPLEMENTARY INFORMATION: In FR Doc. 2022-06264 at 87 FR 16989 in the issue of Friday, March 25, 2022, on page 17000 in the first and second columns, amendatory instruction 2 and the accompanying regulatory text is corrected to read as follows:

2. In § 201.3:

a. Redesignate table 1 to paragraph (d) and table 1 to paragraph (e) as table 2 to paragraph (d) and table 3 to paragraph (e), respectively; and

b. Add paragraph (g)(1).

The addition reads as follows:

§ 201.3 Fees for registration, recordation, and related services, special services, and services performed by the Licensing Section and the Copyright Claims Board.

* * * * *

(g) * * *

Table 4 to Paragraph (g)
Copyright Claims Board fees | Fees ($)
(1) Initiate a proceeding before the Copyright Claims Board:
(i) First payment | 40
(ii) Second payment | 60
* * * * *

Dated: April 15, 2022.
Shira Perlmutter,
Register of Copyrights and Director of the U.S. Copyright Office.
Approved by:
Carla D. Hayden,
Librarian of Congress.

[FR Doc. 2022-08655 Filed 4-21-22; 8:45 am]

BILLING CODE 1410-30-P